DEPARTMENT OF DEFENSE

Notice of Decision for the Juniper Butte Range Land Withdrawal Extension, Mountain Home Air Force Base, Idaho

AGENCY: Department of the Air Force, Department of Defense.

ACTION: Notice of decision.

SUMMARY: The Air Force is publishing this notice of decision on the continuing Air Force need for Juniper Butte Range, Idaho Land Withdrawal and Extension for 25 Years.

ADDRESSES: Ms. Sheri Robertson 366 FW/PA, 366 Gunfighter Avenue, Suite 310, Mountain Home AFB 83648, (208) 828-2299; sheri.robertson@us.af.mil.

SUPPLEMENTARY INFORMATION: See Notice to Congress and the Secretary of the Interior below. The Air Force is publishing this final notice to inform state agencies and the public of the decision that there is a continuing need for Juniper Butte Range Land Withdrawal and of the extension for 25 years. In accordance with Public Law 105-261, Section 2915, this 25-year extension of the 1998 withdrawal will occur without a new authorization by Congress after notification to Congress and the Secretary of the Interior and a Federal Register and local newspaper publication of that notification and an accompanying 60-day comment period. Comments should be sent to the address provided above, and will be forwarded to the Secretaries of the Air Force and Interior.

Adriane Paris,
Acting Air Force Federal Register Liaison Officer.

BILLING CODE 5001-10-P

[FR Doc. 2021-23968 Filed 11-2-21; 8:45 am]

BILLING CODE 5001-10-C